DEPARTMENT OF HOMELAND SECURITY

Coast Guard

[CGD07-05-091]

Implementation of Sector St. Petersburg

AGENCY: Coast Guard, DHS.

ACTION: Notice of organizational change.

SUMMARY: The Coast Guard announces the establishment of Sector St. Petersburg. The Sector St. Petersburg Commanding Officer will have the authority, responsibility and missions of a Group Commander, Captain of the Port (COTP) and Commanding Officer, Marine Safety Office (MSO). The Coast Guard has established a continuity of operations order whereby all previous practices and procedures will remain in effect until superseded by an authorized Coast Guard official and/or document.

DATES: The effective date of this organizational change is July 11, 2005.

ADDRESSES: Documents indicated in this preamble as being available in the docket are part of docket CGD07-05-091 and are available for inspection or copying at District 7 Resources, 9th Floor, 909 SE 1st Avenue, Miami, FL 33131 between 7:30 a.m. and 4:30 p.m., Monday through Friday, except Federal holidays.

FOR FURTHER INFORMATION CONTACT: Lieutenant Commander Michael Jackson, District 7 Resources Program at 305-415-6706.

SUPPLEMENTARY INFORMATION:

Discussion of Notice

This notice announces the establishment of Sector St. Petersburg. Upon creation of Sector St. Petersburg, Group St. Petersburg and MSO Tampa will be incorporated into the Sector and no longer exist as specific entities. Sector St. Petersburg will be composed of a Response Department, Prevention Department, and Logistics Department. All existing missions and functions performed by Group St. Petersburg and MSO Tampa should be realigned under this new organizational structure as of July 11, 2005.

Sector St. Petersburg is responsible for all Coast Guard missions in the Tampa/St. Petersburg marine inspection zone, COTP zone, and Area of Responsibility (AOR). A continuity of operations order has been issued to address existing COTP regulations, orders, directives and policies.

The boundaries of these zones are comprised of the area starting at the intersection of the Florida coast with longitude 083°50′ W (30° 00′ N, 083° 50′ W); mouth of the Fenholloway river, thence due north to a position 30°15′ N, 083°50′ W; thence due west to a position 30°15′ N, 084°45′ W; thence due north to the Florida-Georgia boundary at longitude 084°45′ W; thence easterly along the Florida-Georgia boundary to longitude 083°00′ W; thence southeasterly to 28°00′ N 081°30′ W; thence south to the northern Collier county boundary; thence eastward along the northern Collier county boundary to the intersection with Broward county; thence southerly along the eastern Collier county boundary to the intersection of the Collier and Monroe county boundaries; thence westerly along the southern Collier county boundary encompassing all of Collier county. The offshore area includes that portion of the Gulf of Mexico bounded by an imaginary line bearing 199°t from the intersection of the Florida coast at 30°00′ N, 083°50′ W to the exclusive economic zone (eez) boundary; bounded on the west by the outermost extent of the eez; and on the south at the Collier/Monroe counties coastal boundary line bearing 245°t from a point 25° 48.20′ N, 081°20.65′ W to the extent of the eez. All coordinates referenced use North American Datum 1983 (NAD 1983).

The Sector St. Petersburg Commander is vested with all rights, responsibilities, duties, and authority of a Group Commander and Commanding Officer, Marine Safety Office, as provided for in Coast Guard regulations, and is the successor in command to the Commanding Officer, Marine Safety Office Tampa and the Commander, Group St. Petersburg.

The Sector St. Petersburg Commander shall be designated: (a) COTP for the zone described in 33 CFR 3.35-35; (b) Federal Maritime Security Coordinator (FMSC); (c) Federal On Scene Coordinator (FOSC) for the zone described in 33 CFR 3.35-35, consistent with the national contingency plan; (d) Officer In Charge of Marine Inspection (OCMI) for the zone described in 33 CFR 3.35-35. The Deputy Sector Commander may be designated alternate COTP, FMSC, FOSC, and Acting OCMI.

The following information is a list of updated command titles, addresses and points of contact to facilitate requests from the public and assist with entry into security or safety zones.

Name: Sector St. Petersburg.

Addresses: Commander, U.S. Coast Guard Sector St. Petersburg, 600 8th Ave., SE., St. Petersburg, FL 33701, Chief, Prevention Department, 155 Columbia Drive, Tampa, FL 33606.

Contact: General Number: (727) 824-7638; Operations Center (Emergency): 1-866-881-1392; Sector Commander: (727) 824-7534; Deputy Sector Commander: (727) 824-7534; Chief, Response Department: (727) 824-7674; Chief, Logistics Department: (727) 824-7674; Chief, Prevention Department: (813) 228-2191.

Dated: July 6, 2005.
D.B. Peterman,
Rear Admiral, U. S. Coast Guard, Commander, Seventh Coast Guard District.

[FR Doc. 05-14104 Filed 7-18-05; 8:45 am]

BILLING CODE 4910-15-P